DEPARTMENT OF LABOR

Employment and Training Administration

[TA-W-38,664]

Island Screenworkers, Myrtle Beach, SC; Notice of Termination of Investigation

Pursuant to section 221 of the Trade Act of 1974, an investigation was initiated on February 12, 2001 in response to a petition filed on the same date on behalf of workers at Island Screenworkers, Myrtle Beach, South Carolina.

The investigation revealed that the petition is invalid because it was not signed by three workers, a union representative, or a company official. Consequently, further investigation in this case would serve no purpose, and the investigation has been terminated.

Signed in Washington, DC this 12th day of March, 2001.
Linda G. Poole,
Certifying Officer, Division of Trade Adjustment Assistance.

[FR Doc. 01-8332 Filed 4-4-01; 8:45 am]

BILLING CODE 4510-30-M